DEPARTMENT OF EDUCATION

Office of Postsecondary Education; Overview Information Student Support Services (SSS) Program; Notice Inviting Applications for New Awards for Fiscal Year (FY) 2010

Catalog of Federal Domestic Assistance (CFDA) Number: 84.042A

Dates:

Applications Available: October 22, 2009.

Deadline for Transmittal of Applications: December 7, 2009.

Deadline for Intergovernmental Review: February 4, 2010.

Full Text of Announcement

I. Funding Opportunity Description

Purpose of Program: The purpose of the SSS Program is to increase the number of disadvantaged low-income college students, first generation college students, and college students with disabilities in the United States who successfully complete a program of study at the postsecondary level. The support services provided should increase the retention and graduation rates for these students and facilitate their transfer from two-year to four-year colleges and universities. The support services provided should also foster an institutional climate supportive of the success of students who are limited English proficient, students from groups that are traditionally underrepresented in postsecondary education, students with disabilities, students who are homeless children and youths, students who are in foster care or are aging out of the foster care system, and other disconnected students. Student Support Services should also improve the financial and economic literacy of students.

Program Authority: 20 U.S.C. 1070a-11 and 20 U.S.C. 1070a-14.

Applicable Regulations: (a) The Education Department General Administrative Regulations (EDGAR) in 34 CFR parts 74, 75, 77, 79, 80, 82, 84, 85, 86, 97, 98 and 99. (b) The regulations for this program in 34 CFR part 646.

Note: The regulations in 34 CFR part 79 apply to all applicants except federally recognized Indian tribes.

Note: The regulations in 34 CFR part 86 apply to institutions of higher education only.

Note: The regulations in 34 CFR part 646 apply to this competition except to the extent such regulations conflict with Sections 402A and 402D of the Higher Education Act of 1965, as amended by the Higher Education Opportunity Act of 2008 (HEA).

II. Award Information

Type of Award: Discretionary grants.

Estimated Available Funds: The Administration has requested $848,089,000 to fund the Federal TRIO Programs, of which, $268,905,822 has been allocated for new awards for the SSS Program for FY 2010. The actual level of funding, if any, depends on final Congressional action. However, we are inviting applications to allow enough time to complete the grant process if Congress appropriates funds for the Federal TRIO Programs.

Estimated Range of Awards: $220,000-$360,000.

Estimated Average Size of Awards: $308,732.

Maximum Award: We will reject any application that proposes a budget exceeding the maximum amount listed for a single budget period of 12 months.

For Applicants Not Currently Receiving an SSS Program Grant

Type of project | Maximum amount *
Regular SSS Project Serving a Minimum of 140 Student Participants | $220,000
Regular SSS Project Serving a Minimum of 100 Student Participants with Disabilities | 220,000
English as a Second Language (ESL) SSS Project Serving a Minimum of 140 Student Participants | 220,000
Science, Technology, Engineering and Mathematics (STEM) SSS Project Serving a Minimum of 120 Student Participants | 220,000
Health Sciences SSS Project Serving a Minimum of 120 Student Participants | 200,000
Teacher Preparation SSS Project Serving a Minimum of 140 Student Participants | 220,000
*Note: For any project that will serve less than the minimum number of student participants identified, the maximum award amount that may be requested is an amount equal to $1,500 per student participant.

For Applicants Currently Receiving an SSS Program Grant

The maximum award amount is the greater of:

(a) $220,000 or

(b) An amount equal to 103 percent of the applicant's base grant award amount for FY 2008 or 2009, whichever is greater.

Note 1: In calculating the applicant's base grant award amount for FY 2009, the one-time grant aid supplement awarded in FY 2009 cannot be added to the FY 2009 base grant award amount.

Note 2: For an applicant currently receiving an individual SSS Program grant that has merged into another institution of higher education that is also receiving an individual SSS Program grant, the maximum award amount for the applicant (the merged institution) is an amount equal to 103 percent of the combined FY 2008 or FY 2009 base grant award amounts for both institutions, whichever is greater.

Estimated Number of New Awards: 871.

Note: The Department is not bound by any estimates in this notice.

Project Period: Up to 60 months.

III. Eligibility Information

1. Eligible Applicants: Institutions of higher education or combinations of institutions of higher education.

2. Cost Sharing or Matching: Section 402D(d)(4) of the HEA requires that all successful applicants that use SSS Program funds to provide grant aid to students pursuant to Section 402D(d)(1) of the HEA must provide matching funds, in cash, from non-Federal funds, in an amount that is not less than 33 percent of the total amount of the SSS Program funds used for this aid. This matching requirement does not apply to a grant recipient that is an institution of higher education eligible to receive funds under Part A or Part B of Title III or under Title V of the HEA.

3. Other: An applicant may submit multiple applications if each separate application describes a project that will serve a different campus or a different population (Section 402A(c)(5) of the HEA). Under section 402A(h)(1) of the HEA, the term “different campus” means a site of an institution of higher education that—(1) is geographically apart from the main campus of the institution; (2) is permanent in nature; and (3) offers courses in educational programs leading to a degree, certificate, or other recognized educational credential (Section 402A(h)(1) of the HEA).

Under Section 402A(h)(2) of the HEA, the term “different population” means a group of individuals that an eligible entity desires to serve through a SSS grant that is separate and distinct from any other population that the entity has applied to serve using Federal TRIO Program funds, or, while sharing some of the same needs as another population that the eligible entity has applied to serve using Federal TRIO Program funds, has distinct needs for specialized services. To implement the requirement in Section 402A(h)(2) for this competition, the Secretary is designating the populations to be served as: participants who meet the specific requirements for SSS services (“regular SSS grants”), participants with disabilities (“disabled grants”), participants who need ESL services (“ESL grants”), participants receiving services in the STEM fields (“STEM grants”), participants receiving services in the Health Sciences fields (“Health Sciences grants”) and participants receiving Teacher Preparation services (“Teacher Preparation grants”). These different populations need different types of services. Accordingly, as noted in the Maximum Award section, the Secretary has determined that projects serving these different populations should be subject to different maximum award amounts and different standards for the minimum number of participants. An applicant may submit more than one application as long as each application serves a different population. Any applicant who submits more than one application must submit a justification as to why the different population of participants cannot be served by the project in the applicant's other application(s).

IV. Application and Submission Information

1. Address to Request Application Package: Deborah Walsh, U.S. Department of Education, 1990 K Street, NW., Room 7000, Washington, DC 20006-8510. Telephone: (202) 502-7600 or by e-mail: TRIO@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limit: The application narrative (Part III of the application) is where you, the applicant, address the selection criteria that reviewers use to evaluate your application. You must limit the application narrative (Part III) to no more than 65 pages using the following standards:

• A “page” is 8.5″ × 11″, on one side only, with 1″ margins at the top, bottom, and both sides. Page numbers and an identifier may be within the 1″ margin.

• Double space (no more than three lines per vertical inch) all text in the application narrative, including titles, headings, footnotes, quotations, references, and captions; however, you may single space all text in charts, tables, figures, and graphs.

• Use a font that is either 12 point or larger, or no smaller than 10 pitch (characters per inch).

• Use one of the following fonts: Times New Roman, Courier, Courier New, or Arial. An application submitted in any other font (including Times Roman and Arial Narrow) will not be accepted.

The page limit does not apply to Part I, the Application for Federal Assistance Face Sheet (SF 424); Part II, the budget information summary form (ED Form 524); SSS Program Profile; the one-page Project Abstract narrative; and the assurances and certifications. The page limit also does not apply to a table of contents. If you include any attachments or appendices, these items will be counted as part of Part III, the application narrative, for purposes of the page-limit requirement. You must include your complete response to the selection criteria, which also includes the budget narrative in Part III, the application narrative. We will reject your application if you exceed the page limit.

3. Submission Dates and Times:

Applications Available: October 22, 2009.

Deadline for Transmittal of Applications: December 7, 2009.

Applications for grants under this program must be submitted electronically using the Electronic Grant Application System (e-Application) accessible through the Department's e-Grants site. For information (including dates and times) about how to submit your application electronically, or in paper format by mail or hand delivery if you qualify for an exception to the electronic submission requirement, please refer to Section IV. 6. Other Submission Requirements of this notice.

We do not consider an application that does not comply with the deadline requirements.

Individuals with disabilities who need an accommodation or auxiliary aid in connection with the application process should contact the person listed under For Further Information Contact of Section VII of this notice. If the Department provides an accommodation or auxiliary aid to an individual with a disability in connection with the application process, the individual's application remains subject to all other requirements and limitations in this notice.

Deadline for Intergovernmental Review: February 4, 2010.

4. Intergovernmental Review: This program is subject to Executive Order 12372 and the regulations in 34 CFR part 79. Information about Intergovernmental Review of Federal Programs under Executive Order 12372 is in the application package for this program.

5. Funding Restrictions: We specify unallowable costs in 34 CFR 646.31. We reference additional regulations outlining restrictions in the Applicable Regulations section of this notice.

6. Other Submission Requirements: Applications for grants under this program must be submitted electronically unless you qualify for an exception to this requirement in accordance with the instructions in this section.

a. Electronic Submission of Applications.

Applications for grants under the Student Support Services Program—CFDA Number 84.042A must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program [competition] after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement and may submit your application in paper format if you are unable to submit an application through e-Application because—

• You do not have access to the Internet; or

• You do not have the capacity to upload large documents to e-Application; and

• No later than two weeks before the application deadline date (14 calendar days; or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Eileen S. Bland, U.S. Department of Education, 1990 K Street, NW., Room 7000, Washington, DC 20006-8510. Fax: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.042A) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.042A) 550 12th Street, SW., Room 7041, Potomac Center Plaza, Washington, DC 20202-4260. The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program competition are in 34 CFR 646.21 and are listed in the application package.

Note: Under the “Objectives” selection criterion, 34 CFR 646.21 (b), worth eight (8) points, applicants should address the standardized objectives in 34 CFR 646.21(a)(3) related to the participants' academic achievements, including retention, grade point average, graduation, and transfer. Applicants also should note that the graduation objective should be measured by cohorts of students who become SSS Program participants in each year of the project and should be compared to a relevant and valid comparison group. The graduation, certificate, and transfer rates for two-year institutions should be measured over a four-year period and that of four-year institutions should be measured over a six-year period.

2. Review and Selection Process: A panel of non-Federal readers will review each application in accordance with the selection criteria, pursuant to 34 CFR 646.21. The individual scores of the readers will be added and the sum divided by the number of readers to determine the reader score received in the review process. In accordance with 34 CFR 646.22, the Secretary will award prior experience points to applicants that have conducted an SSS Program project within the last three fiscal years, based on their documented experience. Prior experience points, if any, will be added to the application's averaged reader score to determine the total score for each application. If there are insufficient funds for all applications with the same total scores, the Secretary will choose among the tied applications so as to serve geographical areas that have been underserved by the SSS Program.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The success of the SSS Program will be measured by the rates of SSS Program participants persisting in and completing postsecondary education at the grantee institution. All SSS Program grantees will be required to submit an annual performance report documenting the persistence and degree attainment of their participants. Since students may take different lengths of time to complete their degrees, multiple years of performance report data are needed to determine the degree completion rates of SSS Program participants. The Department of Education will aggregate the data provided in the annual performance reports from all grantees to determine the accomplishment level.

VII. Agency Contacts

For Further Information Contact: Deborah Walsh or, if unavailable, contact Lavelle Redmond, U.S. Department of Education, 1990 K Street, NW., Room 7000, Washington, DC 20006-8510. Telephone: (202) 502-7600 or by e-mail: TRIO@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in Section VII of this notice.

Electronic Access to This Document: You can view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: October 16, 2009.
Daniel T. Madzelan,
Director, Forecasting and Policy Analysis.

[FR Doc. E9-25389 Filed 10-21-09; 8:45 am]

BILLING CODE 4000-01-P